DEPARTMENT OF THE TREASURY

Office of Foreign Assets Control

Proposed Collection; Comment Request for Payments to Persons Who Hold Certain Categories of Judgments

AGENCY: Office of Foreign Assets Control, Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Office of Foreign Assets Control (OFAC) within the Department of the Treasury is soliciting comments concerning OFAC's information collection requirements contained within the procedures set forth for persons to establish eligibility for payments authorized by section 2002 of the Victims of Trafficking and Violence Protection Act of 2000 (Act), Public Law 106-386, as amended by section 201 of the Terrorism Risk Insurance Act of 2002, Public Law 107-297 (section 2002), and other similar laws that may be enacted in the future requiring substantially similar information submissions. Section 2002 directs the Secretary of the Treasury to make payments to persons who hold certain categories of judgments against Cuba or Iran in suits brought on the basis of 28 U.S.C. 1605(a)(7). The procedures pertaining to establishing eligibility for such payments are set forth in Federal Register notices published on November 22, 2000, at 65 FR 70382, December 15, 2000, at 65 FR 78533, and February 19, 2003, at 68 FR 8077.

DATES: Written comments should be received on or before November 15, 2004 to be assured of consideration.

ADDRESSES: Comments may be submitted to the Chief of Records, ATTN: Request for Comments, Office of Foreign Assets Control, Department of the Treasury, 1500 Pennsylvania Avenue, NW., Washington, DC 20220. Alternatively, comments may be submitted via facsimile to the Chief of Records at (202) 622-1657 or via OFAC's Web site http://www.treas.gov/offices/enforcement/ofac/comment.html.

FOR FURTHER INFORMATION CONTACT: Requests for additional information about the filings or procedures should be directed to Rochelle E. Stern, Chief, Policy Planning and Program Management, tel.: (202) 622-2500, Office of Foreign Assets Control, Department of the Treasury, Washington, DC 20220 (not a toll-free number).

SUPPLEMENTARY INFORMATION: Title: Procedures for Payments to Persons Who Hold Certain Categories of Judgments.

OMB Number: 1505-0177.

Abstract: This information collection pertains to present procedures for applying for payments under section 2002 and other laws that may be enacted requiring substantially similar information submissions to process compensations claims based on judgments in lawsuits brought pursuant to 28 U.S.C. 1605(a)(7). The procedures for payments under section 2002 are set forth in the Federal Register notices published by OFAC on November 22, 2000, December 15, 2000, and February 19, 2003. The collection of this information is required to enable the Department of the Treasury to determine the eligibility of an applicant under section 2002, and other future similar laws, and to complete processing of payments. The collection of information is voluntary, but submission of the information is required by OFAC in processing applications for payments. The estimated average burden per applicant is 12 hours.

Current Actions: There are no changes proposed with respect to the nature of the information collected. However, as reflected in the change of the title from “Procedures for Payments to Persons Who Hold Certain Categories of Judgments Against Cuba or Iran” to “Procedures for Payments to Persons Who Hold Certain Categories of Judgments,” OFAC also will apply the information collection to certain claims based on judgments against countries other than Cuba or Iran.

Type of Review: Extension of a currently approved collection.

Affected Public: Persons who hold certain judgments.

Estimated Number of Respondents: 20.

Estimated Time Per Respondent: 12 hours.

Estimated Total Annual Burden Hours: 240.

The following paragraph applies to all of the collections of information covered by this notice.

An agency may not conduct or sponsor, and a person is not required to respond to, a collection of information unless the collection of information displays a valid Office of Management and Budget (OMB) control number. Books or records relating to a collection of information must be retained for five years.

Request for Comments: Comments submitted in response to this notice will be summarized and/or included in the request for OMB approval. All comments will become a matter of public record. Comments are invited on: (a) Whether the collection of information is necessary for the proper performance of the functions of the agency, including whether the information has practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: September 7, 2004.
R. Richard Newcomb,
Director, Office of Foreign Assets Control.

[FR Doc. 04-20882 Filed 9-15-04; 8:45 am]

BILLING CODE 4810-25-P